NUCLEAR REGULATORY COMMISSION

[Docket No. 50-331]

FPL Energy Duane Arnold, LLC; Biweekly Notice; Application for Amendment to the Facility Operating License Involving Proposed No Significant Hazards Considerations; Correction

AGENCY: Nuclear Regulatory Commission.

ACTION: Notice of amendment request; Correction.

SUMMARY: This document corrects a notice appearing in the Federal Register on September 25, 2007 (72 FR 54472), that incorrectly referenced the licensee as Detroit Edison Company. This action is necessary to correct the erroneous reference.

FOR FURTHER INFORMATION CONTACT: Karl D. Feintuch, Office of Nuclear Reactor Regulation, U.S. Nuclear Regulatory Commission, Washington, DC 20555-0001; telephone (301) 415-3079, e-mail: KDF@nrc.gov.

SUPPLEMENTARY INFORMATION: On page 54472, in the second column, in the third complete paragraph, first line, the Notice is corrected to read from “Detroit Edison Company” to “FPL Energy Duane Arnold, LLC.”

Dated in Rockville, Maryland, this 2nd day of October 2007.
For the Nuclear Regulatory Commission.
Karl D. Feintuch,
Project Manager, Plant Licensing Branch III-1, Division of Operating Reactor Licensing.

[FR Doc. E7-19946 Filed 10-9-07; 8:45 am]

BILLING CODE 7590-01-P